DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (the SDN List) based on OFAC's determination that one or more applicable legal criteria were satisfied. All property and interests in property subject to U.S. jurisdiction of these persons are blocked, and U.S. persons are generally prohibited from engaging in transactions with them. Additionally, OFAC is publishing the names of one or more persons that have been removed from the SDN List. Their property and interests in property are no longer blocked, and U.S. persons are no longer generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

A. On August 5, 2020, OFAC determined that the property and interests in property subject to U.S. jurisdiction of the following persons are blocked under the relevant sanctions authority listed below.

Individual

1. TAGWIREI, Kudakwashe Regimond (a.k.a. TAGWIREI, Kuda), 4 Luna Road, Borrowdale, Harare, Zimbabwe; DOB 12 Feb 1969; POB Shurugwi, Zimbabwe; nationality Zimbabwe; alt. nationality South Africa; Gender Male; Passport FN920256 (Zimbabwe) issued 02 Jul 2019 expires 01 Jul 2029; National ID No. 29135894Z66 (Zimbabwe) (individual) [ZIMBABWE].

Designated pursuant to section 1(a)(vii) of Executive Order 13469 of July 25, 2008, “Blocking Property of Additional Persons Undermining Democratic Processes or Institutions in Zimbabwe,” 73 FR 43841, 3 CFR, 2009 Comp., p. 216, (E.O. 13469) for having materially assisted, sponsored, or provided financial, material, logistical, or technical support for, or goods or services in support of, the Government of Zimbabwe, any senior official thereof, or any person whose property and interests in property are blocked pursuant to Executive Order 13288, Executive Order 13391, or E.O. 13469.

Entity

1. SAKUNDA HOLDINGS (a.k.a. SAKUNDA HOLDINGS (PRIVATE) LIMITED), Samora Machel Avenue No. 45 (between J. Nyerere Way and L. Takawira Street), 4th, 15th, 16th, & 17th Floors, Century Towers, Harare, Zimbabwe [ZIMBABWE] (Linked To: TAGWIREI, Kudakwashe Regimond).

Designated pursuant to section 1(a)(viii) of E.O. 13469 for being owned or controlled by, or to have acted or purported to act for or on behalf of, directly or indirectly, Kudakwashe Regimond Tagwirei, a person whose property and interests in property are blocked pursuant to E.O. 13469.

B. OFAC previously determined on November 25, 2008 that the individual and entities listed below met one or more of the criteria under E.O. 13469. On August 5, 2020, the Director of OFAC determined that circumstances no longer warrant the inclusion of the following individual and entities on the SDN List under this authority. These persons are no longer subject to the blocking provisions of Section 1(a) of E.O. 13469.

Individual

1. BREDENKAMP, John (a.k.a. BREDENKAMP, John A.; a.k.a. BREDENKAMP, John Arnold), Thetford Farm, P.O. Box HP86, Mount Pleasant, Harare, Zimbabwe; 10 Montpelier Square, London SW7 1JU, United Kingdom; Hurst Grove, Sanford Lane, Hurst, Reading, Berkshire RG10 0SQ, United Kingdom; Middleton House, Titlarks Hill Road, Sunningdale, Ascot, Berkshire SL5 0JB, United Kingdom; New Boundary House, London Road, Sunningdale, Ascot, Berkshire SL5 0DJ, United Kingdom; Mapstone House, Mapstone Hill, Lustleigh, Newton Abbot, Devon TQ13 9SE, United Kingdom; Dennerlei 30, Schoten, Belgium; 62 Chester Square, London, United Kingdom; DOB 11 Aug 1940; citizen Netherlands; alt. citizen Zimbabwe; alt. citizen Suriname; Passport ND1285143 (Netherlands); alt. Passport Z01024064 (Netherlands); alt. Passport Z153612 (Netherlands); alt. Passport 367537C (Suriname) (individual) [ZIMBABWE].

Entities

1. ALPHA INTERNATIONAL (PRIVATE) LTD (a.k.a. ALPHA INTERNATIONAL (PRIVATE) LIMITED), Flat 1, Aileen Gardens, 51A Park Road, Camberley, Surrey GU15 2SP, United Kingdom [ZIMBABWE].

2. BRECO (ASIA PACIFIC) LTD, First Floor, Falcon Cliff, Palace Road, Douglas IM2 4LB, Man, Isle of; Business Registration Document # M78647 (United Kingdom) [ZIMBABWE].

3. BRECO (EASTERN EUROPE) LTD (a.k.a. BRECO (EASTERN EUROPE) LIMITED), Hurst Grove, Standord Lane, Hurst, Reading, Berkshire RG10 0SQ, United Kingdom; Falcon Cliff, Palace Road, Douglas IM99 1ZW, Man, Isle of; Business Registration Document # FC0021189 (United Kingdom) [ZIMBABWE].

4. BRECO (SOUTH AFRICA) LTD, Cumbrae House, Market Street, Douglas IM1 2PQ, Man, Isle of; 9 Columbus Centre, Pelican Drive, Road Town, Tortola, Virgin Islands, British; Business Registration Document # Q1962 (United Kingdom) [ZIMBABWE].

5. BRECO (U.K.) LTD (a.k.a. BRECO (U.K.) LIMITED), New Boundary House, London Road, Sunningdale, Ascot, Berkshire SL5 0DJ, United Kingdom; Business Registration Document # 2969104 (United Kingdom) [ZIMBABWE].

6. BRECO GROUP, Thetford Farm, P.O. Box HP86, Mount Pleasant, Harare, Zimbabwe; 10 Montpelier Square, London SW7 1JU, United Kingdom; Hurst Grove, Sandford Lane, Hurst, Reading, Berkshire RG10 0SQ, United Kingdom; Middleton House, Titlarks Hill Road, Sunningdale, Ascot, Berkshire SL5 0JB, United Kingdom; New Boundary House, London road, Sunningdale, Ascot, Berkshire SL5 0DJ, United Kingdom; Mapstone House, Mapstone Hill, Lustleigh, Newton Abbot, Devon TQ13 9SE, United Kingdom; Dennerlei 30, Schoten, Belgium [ZIMBABWE].

7. BRECO INTERNATIONAL, 25 Broad Street, St. Helier JE2 3RR, Jersey [ZIMBABWE].

8. BRECO NOMINEES LTD, New Boudary House, London Road, Sunningdale, Ascot, Berkshire SL5 0DJ, United Kingdom; Business Registration Document # 2799499 (United Kingdom) [ZIMBABWE].

9. BRECO SERVICES LTD (a.k.a. BRECO SERVICES LIMITED), New Boundary House, London Road, Sunningdale, Ascot, Berkshire SL5 0DJ, United Kingdom; Business Registration Document # 2824946 (United Kingdom) [ZIMBABWE].

10. CORYBANTES LTD, New Boudary House, London Road, Sunningdale, Ascot, Berkshire SL5 0DJ, United Kingdom; Middleton House, Titlarks Hill Road, Sunningdale, Ascot, Berkshire SL5 0JB, United Kingdom; Business Registration Document # FC21190 (United Kingdom) [ZIMBABWE].

11. ECHO DELTA HOLDINGS LTD, Thetford Farm, P.O. Box HP86, Mount Pleasant, Harare, Zimbabwe; Hurst Grove, Sandford Lane, Hurst, Reading, Berkshire RG10 0SQ, United Kingdom; Newboudary House, London Road, Sunningdale, Ascot, Berkshire SL5 0DJ, United Kingdom [ZIMBABWE].

12. KABABANKOLA MINING COMPANY (a.k.a. KMC), Nr. 1106 Avenue Lomami, Lubumbashi, Katanga, Congo, Democratic Republic of the [ZIMBABWE].

13. MASTERS INTERNATIONAL LTD., New Boundary House, London Road, Sunningdale, Ascot, Berkshire SL5 0DJ, United Kingdom; Business Registration Document # 2927685 (United Kingdom) [ZIMBABWE].

14. MASTERS INTERNATIONAL, INC., 1905 S. Florida Avenue, Lakeland, FL 33803, United States; US FEIN 133798020 (United States) [ZIMBABWE].

15. PIEDMONT (UK) LIMITED, Newboundary House, London Road, Sunningdale, Ascot, Berkshire SL5 0DJ, United Kingdom [ZIMBABWE].

16. RACEVIEW ENTERPRISES, Zimbabwe [ZIMBABWE].

17. SCOTTLEE HOLDINGS (PVT) LTD, 124 Josiah Chinamano Avenue, P.O. Box CY3371, Cauaseway, Harare, Zimbabwe; New Boundary House, London Road, Sunningdale, Berkshire SL5 0DJ, United Kingdom [ZIMBABWE].

18. SCOTTLEE RESORTS (a.k.a. SCOTTLEE RESORTS LIMITED), 124 Josiah Chinamano Avenue, P.O. Box CY 3371, Causeway, Harare, Zimbabwe; Newboundary House, London Road, Sunningdale, Berkshire SL5 0DJ, United Kingdom [ZIMBABWE].

19. TIMPANI LTD (a.k.a. TIMPANI EXPORT LTD; a.k.a. TIMPANI LIMITED), Mapstone House, Mapstone Hill, Lustleigh, Newton Abbot, Devon TQ13 9SE, United Kingdom; Falcon Cliff, Palace Road, Douglas, Isle of Man, Man, Isle of; Moorgate House, King Street, Newton Abbot, Devon TQ12 2LG, United Kingdom; Business Registration Document # 3547414 (United Kingdom) [ZIMBABWE].

20. TREMALT LTD (a.k.a. TREMALT LIMITED), Virgin Islands, British; Thetford Farm, P.O. Box HP86, Mount Pleasant, Harare, Zimbabwe; Hurst Grove, Sandford Lane, Hurst, Reading, Berkshire RG10 0SQ, United Kingdom; New Boundary House, London Road, Sunningdale, Ascot, Berkshire SL5 0DJ, United Kingdom [ZIMBABWE].

Dated: August 5, 2020.
Andrea M. Gacki,
Director, Office of Foreign Assets Control, U.S. Department of the Treasury.

[FR Doc. 2020-17457 Filed 8-10-20; 8:45 am]

BILLING CODE 4810-AL-P